DEPARTMENT OF ENERGY

Federal Energy Regulatory Commission

Combined Notice of Filings #1

Take notice that the Commission received the following electric rate filings:

Docket Numbers: ER10-2906-006; ER10-2908-006; ER10-2911-006; ER10-2909-006; ER10-2910-006; ER10-2900-006; ER10-2899-006; ER10-2898-011; ER11-4393-003.

Applicants: Morgan Stanley Capital Group Inc., MS Solar Solutions Corp., Naniwa Energy LLC, Power Contract Financing II, Inc., Power Contract Financing II, L.L.C., South Eastern Generating Corp., South Eastern Electric Development Corp., Utility Contract Financing II, LLC,TAQA Gen X LLC.

Description: Notice of Non-Material Change in Status of Morgan Stanley Capital Group Inc., et al.

Filed Date: 11/8/12.

Accession Number: 20121108-5103.

Comments Due: 5 p.m. ET 11/29/12.

Docket Numbers: ER13-342-000.

Applicants: CPV Shore, LLC.

Description: Application for Market-Based Rate Authorization to be effective 1/10/2013.

Filed Date: 11/8/12.

Accession Number: 20121108-5114.

Comments Due: 5 p.m. ET 11/29/12.

Docket Numbers: ER13-343-000.

Applicants: CPV Maryland, LLC.

Description: Application for Market-Based Rate Authorization to be effective 1/10/2013.

Filed Date: 11/8/12.

Accession Number: 20121108-5116.

Comments Due: 5 p.m. ET 11/29/12.

Docket Numbers: ER13-344-000.

Applicants: Crestwood Energy, LP.

Description: Notice of Cancellation to be effective 11/9/2012.

Filed Date: 11/8/12.

Accession Number: 20121108-5145.

Comments Due: 5 p.m. ET 11/29/12.

Docket Numbers: ER13-345-000.

Applicants: West Oaks Energy NY/NE., LP.

Description: Notice of Cancellation to be effective 11/9/2012.

Filed Date: 11/8/12.

Accession Number: 20121108-5146.

Comments Due: 5 p.m. ET 11/29/12.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 9, 2012.
Nathaniel J. Davis, Sr.,
Deputy Secretary.

[FR Doc. 2012-28008 Filed 11-16-12; 8:45 am]

BILLING CODE 6717-01-P